DEPARTMENT OF TRANSPORTATION

Federal Aviation Administration

14 CFR Part 23

[Docket No. CE170, Special Condition 23-124-SC]

Special Conditions; Byerly Aviation, Twin Commander Models 690, 690A, 690B, 690C, 690D, 695, 695A, and 695B; Protection of Systems From High Intensity Radiated Fields (HIRF): Correction

AGENCY: Federal Aviation Administration (FAA), DOT.

ACTION: Final special conditions; correction.

SUMMARY: The FAA published a document in the Federal Register on October 5, 2001, concerning final special conditions on the Byerly Aviation Twin Commander Models 690, 690A, 690B, 690C, 690D, 695, 695A, and 695B airplane. There was an inadvertent error in the special condition number in the document. This document contains a correction to the special condition number for the final special conditions.

DATES: The effective date of these corrected special conditions is September 17, 2001.

FOR FURTHER INFORMATION CONTACT: Ervin Dvorak, Aerospace Engineer, Standards Office (ACE-110), Small Airplane Directorate, Aircraft Certification Service, Federal Aviation Administration, 901 Locust, Room 301, Kansas City, Missouri 64106; telephone (816) 329-4123.

SUPPLEMENTARY INFORMATION:

Need for Correction

The FAA published a document on October 5, 2001 (66 FR 50819) that issued final special conditions. In the document heading, a special condition number appears that had already been issued for another set of special conditions with a different docket number. This document corrects that error.

Correction of Publication

Accordingly, the special condition number, which appears in the heading of Docket No. CE170, is revised from 23-109-SC to 23-124-SC.

Issued in Kansas City, Missouri on July 25, 2002.
James E. Jackson,
Acting Manager, Small Airplane Directorate, Aircraft Certification Service.

[FR Doc. 02-20630 Filed 8-13-02; 8:45 am]

BILLING CODE 4910-13-P